DEPARTMENT OF COMMERCE

National Oceanic and Atmospheric Administration

50 CFR Part 660

[Docket No. 000501119-01; I.D. 102300C]

Fisheries Off West Coast States and in the Western Pacific; West Coast Salmon Fisheries; Closures and Inseason Adjustments from House Rock, OR to Humboldt South Jetty, CA

AGENCY: National Marine Fisheries Service (NMFS), National Oceanic and Atmospheric Administration (NOAA), Commerce.

ACTION: Closures and inseason adjustments; request for comments.

SUMMARY: NMFS announces that the commercial fishery in the area from House Rock, OR to Humboldt South Jetty, CA, reached its 1,000-chinook guideline for the sub-area allocation off Oregon. The fishery in the sub-area from House Rock, OR to the Oregon-California border was closed at midnight, September 6, 2000, for the duration of the fishery. In the sub-area off California, from Oregon-California border to the Humboldt South Jetty, the fishery remains open. Oregon State regulations will allow vessels with fish on board caught in the open area off California to seek temporary mooring in Brookings, OR, prior to landing in California only if such vessels first notify the Chetco River Coast Guard Station. The Northwest Regional Administrator, NMFS (Regional Administrator), determined that the commercial guideline of salmon for this sub-area had been reached. These actions were necessary to conform to the 2000 management measures and are intended to ensure conservation of chinook salmon.

DATES: Closure effective 2359 hours local time (l.t.), September 6, 2000, for the area from House Rock, OR to the Oregon-California border. Comments will be accepted through December 11, 2000.

ADDRESSES: Comments on these actions must be mailed to Donna Darm, Acting Regional Administrator, Northwest Region, NMFS, NOAA, 7600 Sand Point Way N.E., Bldg. 1, Seattle, WA 98115-0070; or faxed to 206-526-6376; or Rebecca Lent, Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: William Robinson, 206-526-6140, Northwest Region, NMFS or Svein Fougner, 562-980-4030 Southwest Region, NMFS.

SUPPLEMENTARY INFORMATION: Regulations governing the ocean salmon fisheries at 50 CFR 660.409(a)(1) state that, when a quota for any salmon species in any portion of the fishery management area is projected by the Regional Administrator to be reached on or by a certain date, NMFS will, by notification issued under 50 CFR 660.411(a)(2), close the fishery for all salmon species in the portion of the fishery management area to which the quota applies, as of the date the quota is projected to be reached.

In the 2000 management measures for ocean salmon fisheries (65 FR 26138, May 5, 2000), NMFS announced that the commercial fishery for all salmon except coho in the area from House Rock, OR to Humboldt South Jetty, CA would open September 1 through the earlier of September 30 or until the 7,000-chinook quota was reached. The 7,000 chinook quota included a harvest guideline limiting landings at the port of Brookings, OR, to no more than 1,000 chinook. If this guideline was reached prior to the overall quota, the fishery would be closed north of the Oregon-California border. When the fishery is closed north of the Oregon-California border and open to the south, Oregon regulations provide that vessels with fish on board caught in the open area off California may seek temporary mooring in Brookings, OR, prior to landing in California only if such vessels first notify the Chetco River Coast Guard Station via VHF channel 22A between the hours of 0500 and 2200 l.t. and provide the vessel name, number of fish on board, and estimated time of arrival. The Regional Administrator consulted with representatives of the Pacific Fishery Management Council, the California Department of Fish and Game, and the Oregon Department of Fish and Wildlife (ODFW) on September 6, 2000. The ODFW reported that the 1,000 chinook guideline for the sub-area allocation off OR (for the area from House Rock OR to Humboldt South Jetty, CA) would be reached by the end of the day on September 6, 2000, at the current catch and landing rates.

The Northwest Regional Administrator determined that the best available information on September 6, 2000, indicated that the catch and effort data and projections supported closure of the commercial fishery in the sub-area from House Rock, OR to the Oregon-California border at midnight, September 6, 2000. The sub-area off California from the Oregon-California border to the Humboldt South Jetty, California order would remain open. Oregon State regulations would allow vessels with fish on board caught in the open area off California to seek temporary mooring in Brookings, OR prior to landing in California only if such vessels first notify the Chetco River Coast Guard Station.

The States of California and Oregon will manage this fishery in state waters adjacent to these areas of the exclusive economic zone in accordance with this Federal action. As provided by the inseason notice procedures of 50 CFR 660.411, actual notice to fishermen of this action was given by telephone hotline number 206-526-6667 and 800-662-9825, and by U.S. Coast Guard Notice to Mariners broadcasts on Channel 16 VHF-FM and 2182 kHz.

Classification

Because of the need for immediate action to stop a fishery upon achievement of a quota, NMFS has determined that good cause exists for this notification to be issued without affording a prior opportunity for public comment because such notification would be unnecessary, impracticable, and contrary to the public the immediate interest. Moreover, because of need to stop the fishery upon achievement of a quota, the Assistant Administrator for Fisheries, NOAA finds, for good cause, under 5 U.S.C. 553(d)(3), that delaying the effectiveness of this rule for 30 days is impracticable and contrary to the public interest. These actions do not apply to other fisheries that may be operating in other areas.

This action is authorized by 50 CFR 660.409 and 660.411 and is exempt from review under Executive Order 12866.

Authority: 16 U.S.C. 1801 et seq.

Dated: November 17, 2000.
Bruce C. Morehead,
Acting Director, Office of Sustainable Fisheries, National Marine Fisheries Service.

[FR Doc. 00-30027 Filed 11-22-00; 8:45 am]

BILLING CODE: 3510-22-S